DEPARTMENT OF THE TREASURY

Submission for OMB Review; Comment Request

March 26, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 2, 2001 to be assured of consideration.

Bureau of Alcohol, Tobacco and Firearms (BATF)

OMB Number: New.

Form Number: ATF F 2300.10.

Type of Review: Extension.

Title: Special Agent Medical Preplacement.

Description: Information collected will be used to determine whether or not an applicant is actually qualified for the position. The information will be initially used to make a recommendation on either hiring or not hiring an applicant.

Respondents: Individuals or households.

Estimated Number of Recordkeepers: 300.

Estimated Burden Hours Per Recordkeeper: 45 minutes.

Frequency of Response: Other (as long as employed).

Estimated Total Recordkeeping Burden: 225 hours.

OMB Number: 1512-0025.

Form Number: ATF F 2 (5320.2).

Type of Review: Extension.

Title: Notice of Firearms Manufactured or Imported.

Description: This form is used by qualified persons to register National Firearms Act firearms imported or manufactured. The information on the form establishes eligibility and exemption from tax.

Respondents: Business or other for-profit.

Estimated Number of Respondents: 816.

Estimated Burden Hours Per Respondent: 45 minutes .

Frequency of Response: On occasion.

Estimated Total Reporting Burden: 3,750 hours.

OMB Number: 1512-0508.

Form Number: ATF F 5300.28.

Recordkeeping Requirement ID Number: ATF REC 5300/28.

Type of Review: Extension .

Title: Application for Registration for Tax-Free Transactions Under 26 U.S.C. 4221.

Description: Business, State and local governments, and small businesses apply for registration to sell or purchase firearms or ammunition tax free on this form. ATF uses the form to determine an applicant's qualification.

Respondents: Business or other for-profit.

Estimated Number of Respondents: 125.

Estimated Burden Hours Per Respondent: 3 hours.

Frequency of Response: Other (one-time).

Estimated Total Reporting Burden: 375 hours.

Clearance Officer: Frank Bowers (202) 927-8930, Bureau of Alcohol, Tobacco and Firearms, Room 3200, 650 Massachusetts Avenue, NW, Washington, DC 20226.

OMB Reviewer: Alexander T. Hunt (202) 395-7860, Office of Management and Budget, Room 10202, New Executive Office Building, Washington, DC 20503.

Lois K. Holland,
Departmental Reports Management Officer.

[FR Doc. 01-7887 Filed 3-30-01; 8:45 am]

BILLING CODE 4810-31-P